DEPARTMENT OF VETERANS AFFAIRS

Advisory Committee on the Readjustment of Veterans, Notice of Meeting

The Department of Veterans Affairs (VA) gives notice under the Federal Advisory Committee Act that the Advisory Committee on the Readjustment of Veterans will meet virtually on June 12, 2020 at 12:00 p.m. to 3:00 p.m. EST. The virtual meeting is open to the public.

The purpose of the Committee is to advise the Department of Veterans Affairs (VA) regarding the provision by VA of benefits and services to assist Veterans in the readjustment to civilian life. In carrying out this duty, the Committee shall take into account the needs of Veterans who served in combat theaters of operation. The Committee assembles, reviews, and assesses information relating to the needs of Veterans readjusting to civilian life and the effectiveness of VA services in assisting Veterans in that readjustment. The Committee, comprised of 12 subject matter experts, advises the Secretary, through the VA Readjustment Counseling Service, on the provision by VA of benefits and services to assist Veterans in the readjustment to civilian life. In carrying out this duty, the Committee assembles, reviews, and assesses information relating to the needs of Veterans readjusting to civilian life and the effectiveness of VA services in assisting Veterans in that readjustment, specifically taking into account the needs of Veterans who served in combat theaters of operation.

On June 12, 2020, the agenda will include a review of the Committee Charter, a review of the 20th report of the RCS FACA committee, an overview of the National Center for PTSD by Dr. Paula Schnurr, and a period of open discussion amongst committee members.

No time will be allotted for receiving oral comments from the public; however, the committee will accept written comments from interested parties on issues outlined in the meeting agenda or other issues regarding the readjustment of Veterans. Parties should contact Ms. Sherry Moravy, via email at VHA10RCSAction@va.gov, or by mail at Department of Veterans Affairs, Readjustment Counseling Service (10RCS), 810 Vermont Avenue, Washington, DC 20420. Any member of the public seeking additional information should contact Ms. Moravy at the phone number or email addressed noted above. For any members of the public that wish to attend virtually, they may use the WebEx link: https://veteransaffairs.webex.com/veteransaffairs/j.php?MTID=m33a74c10b401acf2335abb7fa525ace3. Meeting number: 906 886 652, Meeting Password: apRUBvp$858, or to join by phone: 1-404-397-1596.

Dated: May 13, 2020.
Jelessa M. Burney.
Federal Advisory Committee Management Officer.

[FR Doc. 2020-10591 Filed 5-15-20; 8:45 am]

BILLING CODE P